DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 1, 2002, through June 28, 2002.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above UNDER THE HEADING FOR FURTHER INFORMATION CONTACT), with a copy to HRSA addressed to Director, Division of Vaccine Injury Compensation Program, 5600 Fishers Lane, Room 8A 46, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Karen Grubbs on behalf of Benjamin Grubbs, Vienna, Virginia— Court of Federal Claims Number 02-0251V

2. Catherine Wiley on behalf of Everett Wiley, Fresno, California— Court of Federal Claims Number 02-0252V

3. Diane Oakley on behalf of Trevor Oakley, Vienna, Virginia— Court of Federal Claims Number 02-0253V

4. Roger Strunk, Reading, Pennsylvania— Court of Federal Claims Number 02-0254V

5. Tami and Ralph Gonzalez on behalf of Oscar Rafael Gonzalez, Los Angeles, California— Court of Federal Claims Number 02-0256V

6. Angela and Bruce Hewett on behalf of Hunter Blake Hewett, Fort Worth, Texas— Court of Federal Claims Number 02-0257V

7. Danny W. Caldwell, Statesville, North Carolina— Court of Federal Claims Number 02-0258V

8. Elizabeth and James O'Hea on behalf of Evan James O'Hea, Rockford, Illinois— Court of Federal Claims Number 02-0259V

9. Tima Mehok on behalf of Anthony Edward Rodriguez, Robbinsdale, Minnesota— Court of Federal Claims Number 02-0260V

10. Anne and Anthony Christie on behalf of Anthony Neil Christie, Houston, Texas— Court of Federal Claims Number 02-0262V

11. Virginia and Carl Williams on behalf of Carl Houston Williams, Mount Sterling, Kentucky— Court of Federal Claims Number 02-0263V

12. Deanna and Randy Beinlich on behalf of Allan Beinlich, Weatherford, Texas— Court of Federal Claims Number 02-0264V

13. Terrilyn Singer on behalf of Zachary Stephen Singer, Allentown, Pennsylvania— Court of Federal Claims Number 02-0265V

14. Carla and Jeffrey Barres on behalf of Morgan Ruth Barres, San Antonio, Texas— Court of Federal Claims Number 02-0266V

15. Chen-Zhi Jian and Mei-Chin Lai on behalf of Gerald Lai Jian, Falls Church, Virginia— Court of Federal Claims Number 02-0267V

16. Erica Goodman on behalf of Aaron Rashad Jacobs, Baltimore, Maryland— Court of Federal Claims Number 02-0268V

17. Tina and Jerome Cain on behalf of Jared Jerome Cain, Monticello, Minnesota— Court of Federal Claims Number 02-0269V

18. Zembralynn and Rodney Hagler on behalf of Mackendi Jaquist Hagler, Houston, Texas— Court of Federal Claims Number 02-0270V

19. Jeannie and Donald Larson on behalf of Matthew Larson, Nashua, New Hampshire— Court of Federal Claims Number 02-0276V

20. Julia Whiting on behalf of Molly Malone, Boston, Massachusetts— Court of Federal Claims Number 02-0277V

21. Carolyn Shires on behalf of Michael Ray Spadafore, Jr.,

Tacoma, Washington— Court of Federal Claims Number 02-0283V

22. Arlene Gresham on behalf of Paul Hassan Robinson, Drexel Hill, Pennsylvania— Court of Federal Claims Number 02-0284V

23. Tyra and Elliott Rubin on behalf of Zarek Ezekiel Rubin, Philadelphia, Pennsylvania— Court of Federal Claims Number 02-0285V

24. Jill Barrett on behalf of Brandon Lee Barrett, Aberdeen, South Dakota— Court of Federal Claims Number 02-0286V

25. Tracy and Scott Willow on behalf of Brett Michael Willow, Coatesville, Pennsylvania— Court of Federal Claims Number 02-0287V

26. Darlene and Santos Fernandez on behalf of Santos Orlando Fernandez, Jr., Baltimore, Maryland— Court of Federal Claims Number 02-0288V

27. David W. Krebs and Glenda K. Gruno-Krebs on behalf of Zachary Scott Krebs, Grand Rapids, Michigan— Court of Federal Claims Number 02-0289V

28. Gloria and David Roman on behalf of Johnathan David Roman, New York, New York— Court of Federal Claims Number 02-0290V

29. Tonya Lynn Logan on behalf of Lamarco Dontel Logan, Houston, Texas— Court of Federal Claims Number 02-0291V

30. Pam and Jeffrey Kocina on behalf of Garrett Kocina, Deceased, Altus Air Force Base, Oklahoma— Court of Federal Claims Number 02-0292V

31. Pamela McDowell on behalf of Courtney Taylor McDowell, Little Rock, Arkansas— Court of Federal Claims Number 02-0297V

32. Alicia and Blane Meeks on behalf of Aidan C. Meeks, Melbourne, Florida—Court of Federal Claims Number 02-0298V

33. Leslie Ann and Douglas Brian Mann on behalf of Mark Douglas Mann, Augusta, Georgia—Court of Federal Claims Number 02-0302V

34. Lisa and Chuck Dipietro on behalf of Daniel Cosmo Dipietro, Geneva, Illinois—Court of Federal Claims Number 02-0303V

35. Diana Barajas on behalf of Kristopher Mark Anthony Dominquez, Jr., Denver, Colorado—Court of Federal Claims Number 02-0304V

36. Vanessa Albert on behalf of Jennifer Kay Albert, Boston, Massachusetts—Court of Federal Claims Number 02-0305V

37. Steven Sedlock on behalf of Brian Sedlock, Deceased, Boston, Massachusetts—Court of Federal Claims Number 02-0308V

38. Angela Colosi on behalf of Stephanie Colosi, Charleston, South Carolina—Court of Federal Claims Number 02-0310V

39. Janet and Philip Fields on behalf of Christy Ranay Fields, Vienna, Virginia—Court of Federal Claims Number 02-0311V

40. Shawna and Matthew Smith on behalf of Ethan Smith, Vienna, Virginia—Court of Federal Claims Number 02-0312V

41. Wendy Forbin, Bakersfield, California—Court of Federal Claims Number 02-0319V

42. Jennifer and Barrie Goodridge on behalf of David Goodridge, Jersey City, New Jersey—Court of Federal Claims Number 02-0320V

43. Jacqueline Crear on behalf of Joshua Lee Crear, Houston, Texas—Court of Federal Claims Number 02-0321V

44. Darlene and Robert Spatafore on behalf of Nicole Danielle Spatafore, Bronxville, New York—Court of Federal Claims Number 02-0322V

45. Holly and William Derricks on behalf of William Daniel Derricks, Philadelphia, Pennsylvania—Court of Federal Claims Number 02-0323V

46. Donna and Paul Brown on behalf of Shawn Anthony Brown, Houston, Texas—Court of Federal Claims Number 02-0324V

47. Janet and Phillip Borum on behalf of Bobby Lowell Borum, II, Chula Vista, California—Court of Federal Claims Number 02-0325V

48. Yves and Mirlande Jean Nicolas on behalf of Shaklee Yves Nicolas, Boston, Massachusetts—Court of Federal Claims Number 02-0326V

49. Victoria Vapata on behalf of Charles Allen Jackson, Jr., Houston, Texas—Court of Federal Claims Number 02-0327V

50. Aleeta Karras on behalf of Joseph Joshua Karras, Las Vegas, Nevada—Court of Federal Claims Number 02-0328V

51. Karen and Leroy Gardner on behalf of Rachel Anne Gardner, Nederland, Texas—Court of Federal Claims Number 02-0329V

52. Trina and Paul Troutt on behalf of Zachary Paul Troutt, Lebanon, Tennessee—Court of Federal Claims Number 02-0330V

53. Pamela and Dena Gossett on behalf of Jacob Alexander Gossett, Duluth, Minnesota—Court of Federal Claims Number 02-0331V

54. Kimberly and James Lee on behalf of Keenan Rudolph Lee, Berkeley, California—Court of Federal Claims Number 02-0332V

55. Marcelle and Michael Freeby on behalf of Aaron James Freeby, Houston, Texas—Court of Federal Claims Number 02-0333V

56. Karina and Eric Rosello on behalf of Alexis Rosello, McAllen, Texas—Court of Federal Claims Number 02-0334V

57. Josephine and Amos Chiles on behalf of Amos Chiles, III, Houston, Texas—Court of Federal Claims Number 02-0335V

58. Antoinette Celli and Nicholas Celli Calderone on behalf of Anthony Joseph Celli Pomona, New Jersey—Court of Federal Claims Number 02-0336V,

59. Carrie Snortland on behalf of Dylan Snortland, Boston, Massachusetts—Court of Federal Claims Number 02-0337V,

60. Shirley Bunker on behalf of Tanner Bunker, Deceased, Appleton, Wisconsin—Court of Federal Claims Number 02-0338V,

61. John Rouleau on behalf of Michael Rouleau, Vienna, Virginia—Court of Federal Claims Number 02-0339V,

62. Michele and Michael Simpson on behalf of Bryce Simpson, Vienna, Virginia—Court of Federal Claims Number 02-0340V,

63. Judith and Elbert Avery on behalf of Isaiah T. Avery, Minneapolis, Minnesota—Court of Federal Claims Number 02-0346V

64. Julia and John Scott on behalf of Isaac Puiett Scott, Andrews Air Force Base, Maryland—Court of Federal Claims Number 02-0347V

65. Portica and Robert Jones on behalf of Robert E. Jones, III, Owensboro, Kentucky—Court of Federal Claims Number 02-0348V

66. Leah and Robert Schrom on behalf of Robert Clayton Schrom, Rimrock, Arizona—Court of Federal Claims Number 02-0349V

67. Kelly and James Vance on behalf of Jesse Taylor Vance, Winter Haven, Florida— Court of Federal Claims Number 02-0350V

68. Lauri and Jeffrey Javes on behalf of Samantha Ann Javes, Fridley, Minnesota—Court of Federal Claims Number 02-0351V

69. Adele and Andrew Hahn on behalf of Alexander J. Hahn, Union, New Jersey—Court of Federal Claims Number 02-0352V

70. Cynthia and Dean Margolis on behalf of Matthew Adam Margolis, Edina, Minnesota—Court of Federal Claims Number 02-0353V

71. Jane and Thomas Conover on behalf of Steven Lyons Conover, Long Beach, California—Court of Federal Claims Number 02-0354V

72. Stacey and Lawrence Wolff on behalf of Jordan Wolff, Houston, Texas—Court of Federal Claims Number 02-0355V

73. Latonya Williams and Larry Green on behalf of Thaddeaus Malik Williams, Houston, Texas—Court of Federal Claims Number 02-0356V

74. Melissa and Tom Bowden on behalf of Thomas M. Bowden, Jr., Houston, Texas—Court of Federal Claims Number 02-0357V

75. Martha and Jimmy Weatherford on behalf of Jamie Gail Weatherford, Garland, Texas—Court of Federal Claims Number 02-0358V

76. Patty and Charles Holcomb on behalf of Emily Ruth Holcomb, Tupelo, Mississippi—Court of Federal Claims Number 02-0359V

77. Dorothy and Cortez Spikes on behalf of Selena Faith Spikes, Beaumont, Texas—Court of Federal Claims Number 02-0360V

78. Bonnie and Mark Ripley on behalf of Devon L. Acosta, New Orleans, Louisiana—Court of Federal Claims Number 02-0361V

79. Holly and Jose Masclans on behalf of Benjamin David Masclans, Haddonfield, New Jersey—Court of Federal Claims Number 02-0362V

80. Kathleen and Christopher Dugan on behalf of Matthew Thomas Dugan, West Islip, New York—Court of Federal Claims Number 02-0363V

81. Janice Parker and Ernest Culver, Jr. on behalf of Klayton Arthur Parker, Robbinsdale, Minnesota—Court of Federal Claims Number 02-0364V

82. Brenda and Lewis Calderone on behalf of David C. Calderone, Brick, New Jersey— Court of Federal Claims Number 02-0365V

83. Lisa Dawn Moore Jamail on behalf of Jacob Bryant Jamail, Kingwood, Texas—Court of Federal Claims Number 02-0366V

84. Seddega Mahdi and James Thomas on behalf of Jonathan M. Thomas, Houston, Texas—Court of Federal Claims Number 02-0367V

85. Mario Arechiga and Susan Synn on behalf of Alec Gregory Arechiga, San Jose, California—Court of Federal Claims Number 02-0368V

86. Patricia and Thomas Wills on behalf of Thomas Anthony Wills, Philadelphia, Pennsylvania—Court of Federal Claims Number 02-0369V

87. Tina and James Tyler on behalf of James Edward Tyler, III, Oaklawn, Illinois—Court of Federal Claims Number 02-0370V

88. Greta and Jeffrey Garza on behalf of Renata Noelle Garza, Corpus Christie, Texas—Court of Federal Claims Number 02-0371V

89. Gina and Daniel Grijalva on behalf of Austin John Grijalva, Oceanside, California—Court of Federal Claims Number 02-0372V

90. Cheryl and William Kraus on behalf of William Daniel Kraus, Huntington, New York—Court of Federal Claims Number 02-0373V

91. Gail and Emilio Porto on behalf of Henry Darren Porto, Miami, Florida—Court of Federal Claims Number 02-0374V

92. Tina and Steven Byrnes on behalf of Lily Byrnes, Brick, New Jersey—Court of Federal Claims Number 02-0375V

93. Denise and Eugene Perkins on behalf of David Anthony Perkins, Boston, Massachusetts—Court of Federal Claims Number 02-0376V

94. Rhonda and Thomas Ivey on behalf of Johniathin D. Ivey, Danville, Pennsylvania—Court of Federal Claims Number 02-0377V

95. Rhonda and Thomas Ivey on behalf of Thomas P. Ivey, IV, Danville, Pennsylvania—Court of Federal Claims Number 02-0378V

96. Guerline Francis on behalf of Kederson Michel, Jr., Boston, Massachusetts—Court of Federal Claims Number 02-0379V

97. Luzelva and Elias Vasquez on behalf of Andres Vasquez, Austin, Texas—Court of Federal Claims Number 02-0380V

98. Julie and Eugene Evans on behalf of Eugene Jewett Evans, Jr., Washington, D.C.,—Court of Federal Claims Number 02-0381V

99. Beth P. Moore on behalf of Jonathan Carl Moore, Baltimore, Maryland—Court of Federal Claims Number 02-0382V

100. Iris Eileen Day on behalf of Kayla Dawn Anderson, Harrisonburg, Virginia—Court of Federal Claims Number 02-0383V

101. Mary Ann and Scott McMillen on behalf of Benjamin James McMillen, Louisville, Kentucky—Court of Federal Claims Number 02-0386V

102. Kristy Purdom on behalf of Joshua Paul Melancon, New Iberia, Louisiana—Court of Federal Claims Number 02-0387V

103. Jacqueline and Timothy Hamilton on behalf of Colin Wade Hamilton, Silver Spring, Maryland—Court of Federal Claims Number 02-0388V

104. Linda Witherspoon on behalf of Tyshown Gibson, Los Angeles, California—Court of Federal Claims Number 02-0389V

105. Cheryl and William Smith on behalf of Trent Coleman Smith, Clear Lake, Texas—Court of Federal Claims Number 02-0390V

106. Vergedretta Dushane Thomas on behalf of NyJerri Shandrea Thomas, Houston, Texas—Court of Federal Claims Number 02-0391V

107. Diane and Nicholas LeRoy on behalf of Nicholas Arthur LeRoy, Houston, Texas—Court of Federal Claims Number 02-0392V

108. David Sechrist on behalf of Abigail Faith Sechrist, Deceased, Vienna, Virginia—Court of Federal Claims Number 02-0393V

109. Tabatha and William Minor on behalf of Stephanie Minor, Deceased, Rome, New York—Court of Federal Claims Number 02-0394V

110. Laura Holtzclaw on behalf of Hanna Grace Holtzclaw, Vienna, Virginia—Court of Federal Claims Number 02-0395V

111. Juliana P. Maffei on behalf of John S. Maffei, Vienna, Virginia—Court of Federal Claims Number 02-0396V

112. Debra and Rob Veglia on behalf of Domenick Veglia, Palm Beach Gardens, Florida—Court of Federal Claims Number 02-0397V

113. Laurie and Michael Kinner on behalf of Liana Joele Kinner, Annapolis, Maryland—Court of Federal Claims Number 02-0398V

114. Angela and Mark Kempton on behalf of Austin Kile Kempton, Orlando, Florida—Court of Federal Claims Number 02-0399V

115. Michel Small on behalf of Zoe Jae Baldwin, Torrance, California—Court of Federal Claims Number 02-0402V

116. Jeff Cooper on behalf of Griffen Cooper, Boston, Massachusetts—Court of Federal Claims Number 02-0406V

117. Paula Degovia on behalf of Lorenzo Degovia, Boston, Massachusetts—Court of Federal Claims Number 02-0409V

118. James L. Paterek on behalf of James Leonard Paterek, Jr., New York, New York—Court of Federal Claims Number 02-0411V

119. Theresa Richardson on behalf of Dylan Richardson, Boston, Massachusetts—Court of Federal Claims Number 02-0412V

120. Victoria and Scott Greenspan on behalf of Victor Greenspan, Philadelphia, Pennsylvania—Court of Federal Claims Number 02-0413V

121. Michelle and Benny Wudowsky on behalf of Andrew Michael Wudowsky, Rockville Center, New York—Court of Federal Claims Number 02-0414V

122. Kerri and Richard Tanner on behalf of Dakota Leighton Tanner, Chandler, Arizona—Court of Federal Claims Number 02-0415V

123. Per Nielsen and Alem Debas on behalf of Matthew Nitai Nielsen, Rockville, Maryland—Court of Federal Claims Number 02-0416V

124. Lakeisha and Aaron Clements on behalf of Lance Lamar Clements, Lawrenceville, New Jersey—Court of Federal Claims Number 02-0417V

125. Lisa and William Fotopoulos on behalf of Jake Alexander Fotopoulos, Southampton, New York—Court of Federal Claims Number 02-0418V

126. Brandy and Stephen Montgomery on behalf of Zechariah Connor Montgomery, Baltimore, Maryland—Court of Federal Claims Number 02-0419V

127. Natalia and Peter D'Arrigo on behalf of Christopher Peter D'Arrigo, Glen Cove, New York—Court of Federal Claims Number 02-0420V

128. Melissa and Richard Legg on behalf of Emily Marie Legg, Hilliard, Ohio—Court of Federal Claims Number 02-0421V

129. Julia and William Snoeberger on behalf of Jacob Andrew Snoeberger, Gahanna, Ohio—Court of Federal Claims Number 02-0422V

130. Robin and Keith Scheffler on behalf of Kyle Aubrey Scheffler, Morristown, New Jersey—Court of Federal Claims Number 02-0423V

131. Susan and Ward Weischet on behalf of Taylor Caroline Weischet, New Haven, Connecticut—Court of Federal Claims Number 02-0424V

132. Kelli and Matt Kash on behalf of Meghan Brooke Kash, Houston, Texas—Court of Federal Claims Number 02-0425V

133. Deborah and Herbert Gump on behalf of Hunter Alec Gump, Virginia Beach, Virginia—Court of Federal Claims Number 02-0426V

134. Jennifer and John Snyder on behalf of Zachary Bayne Snyder, Altamonte Springs, Florida—Court of Federal Claims Number 02-0427V

135. Lisa and David Turner on behalf of Kenneth Joseph Turner, Towson, Maryland—Court of Federal Claims Number 02-0428V

136. Kristy Giles on behalf of Christian William Giles, Watersville, Ohio—Court of Federal Claims Number 02-0429V

137. Helen and John Skevofilax on behalf of Michael Skevofilax, Bel Air, Maryland—Court of Federal Claims Number 02-0433V

138. James Schmitt on behalf of Gunnar Schmitt, Boston, Massachusetts, Court of Federal Claims Number 02-0434V

139. James Schmitt on behalf of Ronald Schmitt, Boston, Massachusetts—Court of Federal Claims Number 02-0435V

140. Darlene and Robert Kryzywicki on behalf of Thomas Kryzywicki, Meadowbrook, Pennsylvania—Court of Federal Claims Number 02-0436V

141. Marjan and Mark Heims on behalf of Scarlet Tanya Heims, Mechanicsville, Virginia—Court of Federal Claims Number 02-0437V

142. Tina and Walter Bonafield on behalf of Joseph Connor Bonafield, Bridgeport, West Virginia—Court of Federal Claims Number 02-0438V

143. Krista Birchfield on behalf of Dylan Clay Johnson, Urbana, Illinois—Court of Federal Claims Number 02-0439V

144. Patricia and Anthony Horvat on behalf of Raymond Milan Horvat, Mayfield Heights, Ohio—Court of Federal Claims Number 02-0440V

145. Tania Woods on behalf of Markiel Keshawn McDaniel, Oakland, California—Court of Federal Claims Number 02-0441V

146. Rebecca and William Khoury on behalf of Joshua Osama Khoury, Del Rio, Texas—Court of Federal Claims Number 02-0442V

147. Cynthia and Shawn Sawmiller on behalf of Cameron Ari Sawmiller, Lima, Ohio—Court of Federal Claims Number 02-0443V

148. Donna and Michael Lawlor on behalf of Terrence Michael Lawlor, Glenridge, New Jersey—Court of Federal Claims Number 02-0444V

149. Elaine and Dickie Maulden on behalf of Caleb Christopher Johnson, Elizabethtown, Kentucky—Court of Federal Claims Number 02-0445V

150. John Healy and Theresa Yard on behalf of Sean Flin Healy, Mineola, New York—Court of Federal Claims Number 02-0446V

151. Rose and Nick Salvemini on behalf of Nicholas Christopher Salvemini, Wayne, New Jersey—Court of Federal Claims Number 02-0447V

152. Stacey Morgan on behalf of Trae Vann Morgan-White, Landsdowne, Pennsylvania—Court of Federal Claims Number 02-0448V

153. Michelle and Joseph Mleczko on behalf of Augustus Maximilian Mleczko, Palos Heights, Illinois—Court of Federal Claims Number 02-0449V

154. Deborah and Ryan Armstrong on behalf of Evan Ryan Armstrong, Louisville, Kentucky—Court of Federal Claims Number 02-0450V

155. Laura and Abraham Gincel on behalf of Paul Jacob Gincel, Herndon, Virginia—Court of Federal Claims Number 02-0451V

156. Lisa Dressler Wehrung on behalf of Zara Wehrung, Boston, Massachusetts—Court of Federal Claims Number 02-0452V

157. Maria Aguilar on behalf of Adgar Herrera, Anaheim, California—Court of Federal Claims Number 02-0455V

158. Rhonda and David Martin on behalf of Jacob Lee Martin, Youngstown, Ohio—Court of Federal Claims Number 02-0457V

159. Rebecca and John Maher on behalf of Alexander Joseph Maher, Lexington, Kentucky—Court of Federal Claims Number 02-0458V

160. Brandy LeJeune on behalf of Riley Herbert LeJeune, Lafayette, Louisiana—Court of Federal Claims Number 02-0467V

161. Carla and Christopher Loving on behalf of Camille Loving, Detroit, Michigan—Court of Federal Claims Number 02-0469V

162. Shelley and Lori Winn on behalf of Trevor Winn, Tualatin, Oregon—Court of Federal Claims Number 02-0470V

163. Lillian Abtahi and Seyed Hossein on behalf of Zena Abtahi, Houston, Texas—Court of Federal Claims Number 02-0471V

164. Marcia and Brian Hooker on behalf of Steven Hooker, Vienna, Virginia—Court of Federal Claims Number 02-0472V

165. Tamara Heydt on behalf of Gavin Heydt, Boston, Massachusetts—Court of Federal Claims Number 02-0473V

166. Barbara Roth on behalf of Spencer Roth, Fargo, North Dakota—Court of Federal Claims Number 02-0475V

167. Darnell Warren and Krystilynn Williams on behalf of Darnell Warren, Jr., Deceased, Gretna, Louisiana—Court of Federal Claims Number 02-0476V

168. Gregory Rivera on behalf of Gregory Rivera, Boston, Massachusetts—Court of Federal Claims Number 02-0480V

169. Carolyn Brown on behalf of Connor Brown, Boston, Massachusetts—Court of Federal Claims Number 02-0481V

170. Julie Holcomb on behalf of Zack Holcomb, Boston, Massachusetts—Court of Federal Claims Number 02-0485V

171. Julie Holcomb on behalf of Cody Holcomb, Boston, Massachusetts—Court of Federal Claims Number 02-0486V

172. Elzbieta and Louis Carnevale on behalf of Joseph M. Carnevale, Southhampton, New York—Court of Federal Claims Number 02-0487V

173. Angela Nelson on behalf of Brandon Nicholas Nelson, Silver Spring, Maryland—Court of Federal Claims Number 02-0488V

174. Paula and Patrick Hansberry on behalf of Patrick Tyler Hansberry, Absecon, New Jersey—Court of Federal Claims Number 02-0489V

175. Susanne and Michael Tuckerman on behalf of Edward David Tuckerman, Meadowbrook, Pennsylvania—Court of Federal Claims Number 02-0490V

176. Susanne and Michael Tuckerman on behalf of Michael Donovan Tuckerman, Meadowbrook, Pennsylvania—Court of Federal Claims Number 02-0491V

177. Candice Woodridge on behalf of Alexion Laterius Jaque Dennis, Evergreen Park, Illinois—Court of Federal Claims Number 02-0492V

178. Penny and James De La Fuente on behalf of Darian Lee De La Fuente, Lancaster, California—Court of Federal Claims Number 02-0493V

179. Michele and Adrian Jennings on behalf of Ryan Jesse Jennings, Richardson, Texas—Court of Federal Claims Number 02-0494V

180. Macario and San Juana Camarillo Guerrero on behalf of Pedro Daniel Guerrero, McAllen, Texas—Court of Federal Claims Number 02-0495V

181. Richard Meier and Cathy Roccia-Meier on behalf of Pierce Anthony Meier, Philadelphia, Pennsylvania—Court of Federal Claims Number 02-0496V

182. Aimee Whittington on behalf of Jacob Tyler Harold Campbell, South Charleston, West Virginia—Court of Federal Claims Number 02-0497V

183. Samantha and Odis Carroll on behalf of Peyton Lee Carroll, Danville, Kentucky—Court of Federal Claims Number 02-0498V

184. Carolyn and Charles Coleman on behalf of Camara Dalia Coleman, Boston, Massachusetts—Court of Federal Claims Number 02-0499V

185. Maureen and James Grace on behalf of Aaron Joseph Grace, Jacksonville, Florida—Court of Federal Claims Number 02-0500V

186. Audrey Latimore on behalf of Kameron M. Latimore, Greenville, South Carolina—Court of Federal Claims Number 02-0501V

187. Amy and Darian Vietzke on behalf of Jason Vietzke, Minneapolis, Minnesota—Court of Federal Claims Number 02-0503V

188. Valeri Dugan on behalf of Jenna Dugan, Boston, Massachusetts—Court of Federal Claims Number 02-0505V

189. Donna Swisher on behalf of Hayden Swisher, Boston, Massachusetts—Court of Federal Claims Number 02-0506V

190. Phyllis Parmelee on behalf of Tyler Parmelee, Boston, Massachusetts—Court of Federal Claims Number 02-0507V

191. Susan Wilson, Los Angeles, California—Court of Federal Claims Number 02-0511V

192. Carl Belotti Yakima, Washington—Court of Federal Claims Number 02-0512V

193. Helen and Kevin Hernandez on behalf of Hayley D. Hernandez, Falls Church, Virginia—Court of Federal Claims Number 02-0514V

194. Patricia Barrett on behalf of Robert Owen Barrett, Holbrook, New York—Court of Federal Claims Number 02-0515V

195. Natalie Martin on behalf of Hannah Martin, Boston, Massachusetts—Court of Federal Claims Number 02-0518V

196. Jan Gunter on behalf of Austin Gunter, Boston, Massachusetts—Court of Federal Claims Number 02-0519V

197. Albert Potts on behalf of Elizabeth Potts, Boston, Massachusetts—Court of Federal Claims Number 02-0520V

198. Rita and Eric Dodd on behalf of Andrew Joseph Dodd, Sandusky, Ohio—Court of Federal Claims Number 02-0521V

199. Ann and Imran Ballout on behalf of Serena Ballout, Palos Heights, Illinois—Court of Federal Claims Number 02-0522V

200. Nicole and Shannon Gallagher on behalf of Megan Gallagher, Abington, Pennsylvania—Court of Federal Claims Number 02-0523V

201. Anna and George Harding on behalf of Andrew Gerald Harding, Burnesville, Minnesota—Court of Federal Claims Number 02-0524V

202. Kia and Norman Murray on behalf of Quinn Terrance Murray, Claremont, New Hampshire—Court of Federal Claims Number 02-0525V

203. Theresa and James Kalhorn on behalf of Serena Megan Kalhorn, Maplewood, Minnesota—Court of Federal Claims Number 02-0526V

204. Mitsy Newberry on behalf of Eugene Jason Allen Newberry, Fort Worth, Texas—Court of Federal Claims Number 02-0527V

205. Ena and Herbert Cooper on behalf of Herbert Emmanuel Cooper, III, Upper Derby, Pennsylvania—Court of Federal Claims Number 02-0528V

206. Rosa and Eduardo Ortiz on behalf of Eddie Xavier Ortiz, Arlington, Texas—Court of Federal Claims Number 02-0529V

207. Amy Hartgrove on behalf of Kyle S. Mann, LaSalle, Texas—Court of Federal Claims Number 02-0530V

208. Wendy and Douglas Bruttomesso on behalf of Jack Ryan Bruttomesso, Houston, Texas—Court of Federal Claims Number 02-0531V

209. Martha and Yuri Cobos on behalf of Leonel Cobos, Oakland, California—Court of Federal Claims Number 02-0532V

210. Joanne and Jerry Sheridan on behalf of Jake Cole Sheridan, Elkins Park, Pennsylvania—Court of Federal Claims Number 02-0533V

211. Lisa and Joseph Borner on behalf of Morgan Elizabeth Borner, Philadelphia, Pennsylvania—Court of Federal Claims Number 02-0534V

212. Karin Fossum and Rakan Alanzi on behalf of Ahmar Rakan Leif Fossum-Alanzi, Arlington, Texas—Court of Federal Claims Number 02-0535V

213. Eugenia and Andrei Elisseev on behalf of Daniel A. Elisseev, Dallas, Texas—Court of Federal Claims Number 02-0536V

214. Mareta and Donald Jackson on behalf of Donald Louis Jackson, Jr., Salt Lake City, Utah—Court of Federal Claims Number 02-0537V

215. Rosalind and Eric Simmons on behalf of Tyler Lenn Simmons, Lutherville, Maryland—Court of Federal Claims Number 02-0538V

216. Martha and Yuri Cobos on behalf of Misael Cobos, Oakland, California—Court of Federal Claims Number 02-0539V

217. Eleanor and Eric Vander Mel on behalf of Eric Christian Vander Mel, Jr., Providence, Rhode Island—Court of Federal Claims Number 02-0540V

218. Janice Zeno on behalf of Moziah Malcom Malik Zeno, Berkley, California—Court of Federal Claims Number 02-0541V

219. Daniella Mackin on behalf of Michaela Lacey Mackin, Malden, Massachusetts—Court of Federal Claims Number 02-0542V

220. Esther and Thomas Blevins on behalf of Israel Josiah Blevins, Montebello, California—Court of Federal Claims Number 02-0543V

221. James Bowser and Annemarie Brosch on behalf of James Thomas Bowser, II, Garfield Heights, Ohio—Court of Federal Claims Number 02-0544V

222. Lisa Barbato and Glenn Goldstein on behalf of Jacob Benjamin Barbato Goldstein, Berkeley, California—Court of Federal Claims Number 02-0545V

223. Kristen De La Guardie on behalf of Mathew Hudson De La Guardie, San Ramon Valley, California—Court of Federal Claims Number 02-0546V

224. Laura Munion on behalf of Lotus Saphire Thurman, Portsmouth, Ohio—Court of Federal Claims Number 02-0547V

225. Laura Munion on behalf of Celest Ehlana Thurman, Portsmouth, Ohio—Court of Federal Claims Number 02-0548V

226. Nancy Guberti on behalf of Marc Guberti, Boston, Massachusetts—Court of Federal Claims Number 02-0549V

227. Rosemary Cordes on behalf of Loren Cordes, Boston, Massachusetts—Court of Federal Claims Number 02-0550V

228. Yolanda Gallagher on behalf of Hunter Gallagher, Boston, Massachusetts—Court of Federal Claims Number 02-0551V

229. Joy Brown on behalf of Duncan Brown, Vienna, Virginia—Court of Federal Claims Number 02-0552V

230. Bob Cunningham and Lisa Kaplan on behalf of Lindsey Cunningham, Vienna, Virginia—Court of Federal Claims Number 02-0553V

231. Mandy and Lee Campbell on behalf of Taylor Marie Campbell, Vienna, Virginia—Court of Federal Claims Number 02-0554V

232. Jayne Irons on behalf of Chaisson Irons, Vienna, Virginia—Court of Federal Claims Number 02-0555V

233. Kelly O'Brien on behalf of Daniel Thomas O'Brien, Vienna, Virginia—Court of Federal Claims Number 02-0556V

234. Lynne Garrison on behalf of Kyle W. Garrison, Clinton, Maryland—Court of Federal Claims Number 02-0559V

235. Miguel Lopez on behalf of Miguel Angel Lopez, Boston, Massachusetts—Court of Federal Claims Number 02-0560V

236. Theresa Madore on behalf of Andrew Madore, Boston, Massachusetts—Court of Federal Claims Number 02-0561V

237. Sanots Mora on behalf of Daphne Mora, Boston, Massachusetts—Court of Federal Claims Number 02-0562V

238. Katrina Morrison on behalf of Alexander Morrison, Boston, Massachusetts—Court of Federal Claims Number 02-0563V

239. Rhonda Tetemanza on behalf of Walker Tetemanza, Boston, Massachusetts—Court of Federal Claims Number 02-0564V

240. Deseri Montgomery on behalf of Keaton Taylor Montgomery, Vienna, Virginia—Court of Federal Claims Number 02-0565V

241. Caroline Cohen, Vienna, Virginia—Court of Federal Claims Number 02-0566V

242. Cindy Bramblett on behalf of Tristan Bramblett, Vienna, Virginia—Court of Federal Claims Number 02-0567V

243. James Muller on behalf of Chase Muller, Vienna, Virginia—Court of Federal Claims Number 02-0568V

244. Latoya Baker, Boston, Massachusetts—Court of Federal Claims Number 02-0569V

245. Jennifer Arsenault on behalf of Luc Arsenault, Boston, Massachusetts—Court of Federal Claims Number 02-0570V

246. Janie and Barry Donovan on behalf of Kathryn Donovan, Philadelphia, Pennsylvania—Court of Federal Claims Number 02-0572V

247. Tonia and Jeffrey Anderson on behalf of Kenneth Robert Norwood, Knoxville, Tennessee—Court of Federal Claims Number 02-0573V

248. Linda and Melville Jones on behalf of Tatyana Nole Jones, Philadelphia, Pennsylvania—Court of Federal Claims Number 02-0574V

249. Julia and John Scott on behalf of Isaac Pruitt Scott, Andrews Air Force Base, Maryland—Court of Federal Claims Number 02-0575V

250. Lorrie and Patrick Struve on behalf of Dalton James Struve, Salt Lake City, Utah—Court of Federal Claims Number 02-0576V

251. Nicole and Shannon Gallagher on behalf of Lauren Nicole Gallagher, Lansdale, Pennsylvania—Court of Federal Claims Number 02-0577V

252. Annie Dilworth on behalf of Scotavious Demetrius Hamilton, Belle Colade, Florida—Court of Federal Claims Number 02-0578V

253. Donna Annette Kean, San Juan, Puerto Rico—Court of Federal Claims Number 02-0579V

254. Scott Paswaters on behalf of Lauren Paswaters, Louisville, Colorado—Court of Federal Claims Number 02-0586V

255. Virginia and Robert LaMonica on behalf of Nicholas Robert LaMonica, Oakdale, New York—Court of Federal Claims Number 02-0587V

256. Tina Martin on behalf of Alexander Jared Bonds, Chicago, Illinois—Court of Federal Claims Number 02-0588V

257. Darlene and Michael Capobianco on behalf of Matthew Emilio Capobianco, Mineola, New York—Court of Federal Claims Number 02-0589V

258. Jonathan D. Alicea on behalf of Jonathan Jalen Alicea, Mesa, Arizona—Court of Federal Claims Number 02-0590V

259. Melissa and James Kaeser on behalf of Alissa M. Kaeser, Havertown, Pennsylvania—Court of Federal Claims Number 02-0591V

260. Joanne and Louis Berman on behalf of Louis Mark Berman, Jr., Abington, Pennsylvania—Court of Federal Claims Number 02-0592V

261. Katima Gibson on behalf of Venica Manuela Velazquez, Pasadena, California—Court of Federal Claims Number 02-0593V

262. Dawna and Eric Knight on behalf of Matthew Grayson Knight, San Jose, California—Court of Federal Claims Number 02-0594V

263. Anna and Robert Knowles on behalf of Robert Salvatore Knowles, Great Neck, New York—Court of Federal Claims Number 02-0595V

264. Cynthia and Allen Joas on behalf of Allen James Joas, Jr., Racine, Wisconsin—Court of Federal Claims Number 02-0596V

265. Mary and Daniel Curtin on behalf of Danielle Johanna Curtin, Bronxville, New York—Court of Federal Claims Number 02-0597V

266. Crispin Lara and Nubia Zavala on behalf of Ronny Daniel Lara, Houston, Texas—Court of Federal Claims Number 02-0598V

267. Virginia Rodriguez-Gonzalez on behalf of Eugene Anderson, Dallas, Texas—Court of Federal Claims Number 02-0599V

268. Linda and Jesse Cortez on behalf of Tyler Joseph Cortez, Euless, Texas—Court of Federal Claims Number 02-0600V

269. Vicky and Scott Truett on behalf of Chance Scott McDowell Truett, Richmond, Kentucky—Court of Federal Claims Number 02-0601V

270. Thomas Bush and Millie Hernandez-Becker on behalf of John Charles Bush, Mount Kisco, New York—Court of Federal Claims Number 02-0602V

271. Shana and Chris Wiehebrink on behalf of Christopher Michael Wiehebrink, Louisville, Kentucky—Court of Federal Claims Number 02-0603V

272. Lisa and Christos Nantsis on behalf of Nikolaos Constantinou Nantsis, New York, New York—Court of Federal Claims Number 02-0605V

273. Amy Wolford on behalf of Abigail Rose Wolford, Point Pleasant, West Virginia—Court of Federal Claims Number 02-0606V

274. Elizabeth Neves on behalf of Sierra Neves, Houston, Texas—Court of Federal Claims Number 02-0607V

275. Frank Hernandez and Joanna Walker on behalf of James Alexander Hernandez, Temple, Texas—Court of Federal Claims Number 02-0608V

276. Sequita Pomales on behalf of Malik Keron Goodson, Cleveland, Ohio—Court of Federal Claims Number 02-0609V

277. Carla and Bruce Posner on behalf of Cameron Ian Posner, New York, New York—Court of Federal Claims Number 02-0610V

278. Juliette and Jesse Humenik on behalf of Joshua James Humenik, Burnsville, Minnesota—Court of Federal Claims Number 02-0611V

279. Darci Geisler on behalf of Dylan Alexander Villa, McKinney, Texas—Court of Federal Claims Number 02-0612V

280. Cynthia and Ricky Powell on behalf of Katerina E. Powell, Nashville, Tennessee—Court of Federal Claims Number 02-0613V

281. Candice Echols on behalf of Miguel Devonte Echols, Memphis, Tennessee—Court of Federal Claims Number 02-0614V

282. Hamoyoun Mohammadi and Mahshid Bazarguh on behalf of Keivan Mohammadi, Temple, Texas—Court of Federal Claims Number 02-0615V

283. Lisa and Shayne Anthony on behalf of Dalton Cayne Anthony, Mesquite, Texas—Court of Federal Claims Number 02-0616V

284. Monique Allen on behalf of Tahmir Khalil Curry, Philadelphia, Pennsylvania—Court of Federal Claims Number 02-0617

285. Lori and Frank Bell on behalf of Jacob Eugene Bell, Scranton, Pennsylvania—Court of Federal Claims Number 02-0618

286. Velia and Bill Pounds on behalf of William Josue Pounds, Casa Grande, Arizona—Court of Federal Claims Number 02-0619

287. Michele and Michael Anderson on behalf of Taylor Timothy Anderson, Minneapolis, Minnesota—Court of Federal Claims Number 02-0620

288. Lisa and David Branch on behalf of Christian John Branch, Glendora, California—Court of Federal Claims Number 02-0621

289. Daron Jones and Heather Berg on behalf of Ysanna Patricia Jones, Harris, New York—Court of Federal Claims Number 02-0622

290. Mary and Joseph Roche on behalf of Christian Joseph Roche, West Islip, New York—Court of Federal Claims Number 02-0623

291. Kristi Elliott on behalf of Kristopher Kevon Lofton, Saint Louis, Missouri—Court of Federal Claims Number 02-0625V

292. Joann Smoot on behalf of Dameyung Daunta Goodwin, Demopolis, Alabama—Court of Federal Claims Number 02-0626V

293. Elizabeth and Steven Kovach on behalf of Steven John Kovach, Jr., Edison, New Jersey—Court of Federal Claims Number 02-0627V

294. Gina and Bart Boulware on behalf of Hayden Fisher Boulware, Dallas, Texas—Court of Federal Claims Number 02-0628V

295. Suzanne and Eric Mandell on behalf of Alexander Tomas Mandell, Burbank, California—Court of Federal Claims Number 02-0630V

296. Amie and Shane Thomas on behalf of Benjamin Andrew Thomas, Berkley, West Virginia—Court of Federal Claims Number 02-0631V

297. John Bartold and Christina Karl on behalf of Julian Jerome Bartold, Burlington, Vermont—Court of Federal Claims Number 02-0632V

298. Jeanne and Dardy Pierre on behalf of Nadira Pierre, Hollywood, Florida—Court of Federal Claims Number 02-0633V

299. Lisa and Michael Smith on behalf of Nicolette Luann Smith, Los Angeles, California—Court of Federal Claims Number 02-0634V

300. Leslie and Douglas Mann on behalf of Michael Vincent Mann, Augusta, Georgia—Court of Federal Claims Number 02-0637V

301. Leslie and Douglas Mann on behalf of Aidan Richard Mann Augusta, Georgia—Court of Federal Claims Number 02-0638V

302. Leslie and Douglas Mann on behalf of Alex Reiner Mann, Augusta, Georgia—Court of Federal Claims Number 02-0639V

303. Frank Rosaschi on behalf of David Rosaschi, Irving, Texas—Court of Federal Claims Number 02-0640V

304. Danielle and Jeff Bates on behalf of Noelle Louise Bates, Cincinnati, Ohio—Court of Federal Claims Number 02-0641V

305. Euridice and Joseph Busweiller on behalf of Christina Marie, Busweiller, West Islip, New York—Court of Federal Claims Number 02-0642V

306. Darlene and Nicholas Downes on behalf of Sean Andrew Downes, Teaneck, New Jersey—Court of Federal Claims Number 02-0643V

307. Aleuba Bowens on behalf of Zezani Amani Bowens, Brooklyn, New York—Court of Federal Claims Number 02-0644V

308. Shandel and Jason Lewis on behalf of Hunter Michael Lewis, Redlands, California—Court of Federal Claims Number 02-0645V

309. Tracey Tindle Mullenax on behalf of Dakota McGuire Tindle-Maples, San Antonio, Texas—Court of Federal Claims Number 02-0646V

310. Emad and Ruba Abu-Goush on behalf of Samy Abu-Goush, Bedford, Texas—Court of Federal Claims Number 02-0647V

311. Lisa and David Turner on behalf of Kenneth Joseph Turner, Towson, Maryland—Court of Federal Claims Number 02-0648V

312. Veronica and Nathan Yates on behalf of Nature Divine Yates, Woodbury, New Jersey—Court of Federal Claims Number 02-0649V

313. Penelope Parker on behalf of Patricia Anne Mervine Parker, Pasadena, Maryland—Court of Federal Claims Number 02-0650V

314. Michelle and Willie Cahoon on behalf of Tristan Nathaniel Cahoon, Akron, Ohio—Court of Federal Claims Number 02-0651V

315. Deborah and Russell Kunze on behalf of Nicholas Jacob Kunze, Stillwater, Minnesota—Court of Federal Claims Number 02-0652V

316. Jimmela Richardson on behalf of Bryan Vincent Varnado, Los Angeles, California—Court of Federal Claims Number 02-0653V

317. Janel and Brian Payette on behalf of Jaxson Brian James Ebert, Hibbing, Minnesota—Court of Federal Claims Number 02-0654V

318. Sheri and Cary Steffens on behalf of Donovan Luke Steffens, Saint Louis, Missouri—Court of Federal Claims Number 02-0655

319. Tammy and Clifton Irvan on behalf of Jennifer Paulette Irvan, Paducah, Kentucky—Court of Federal Claims Number 02-0656V

320. Demetria and Herma'n Nettles on behalf of Jedidi'ah Ja'van Nettles, Brewton, Alabama—Court of Federal Claims Number 02-0657V

321. Charles Carr and Colleen Boyle on behalf of Andrew John Carr, Philadelphia, Pennsylvania—Court of Federal Claims Number 02-0658V

322. Carol Ann and Thomas Jones on behalf of Zebulon Orion Jones, Elmira, New York—Court of Federal Claims Number 02-0659V

323. Holly Baker on behalf of Zachary Baker, Vienna, Virginia—Court of Federal Claims Number 02-0661V

324. Julie and Mark Cyr on behalf of Matthew Cyr, Manchester, New Hampshire—Court of Federal Claims Number 02-0662V

325. Cynthia Miller, Houston, Texas—Court of Federal Claims Number 02-0666V FP-1>326. James Nickelson, Rocklin, California—Court of Federal Claims Number 02-0667V

327. Julie Duffield on behalf of Michael Duffield, Salt Lake City, Utah—Court of Federal Claims Number 02-0668V

328. Tina and David Lane on behalf of Jarod Brady Lane, San Jose, California—Court of Federal Claims Number 02-0670V

329. Nataki Alexander on behalf of Adariuo Alexander, Birmingham, Alabama—Court of Federal Claims Number 02-0671V

330. Cynthia and Allen Joas on behalf of Alexander Jordan Joas, Racine, Wisconsin—Court of Federal Claims Number 02-0672V

331. Bridget and Leslie Sharp on behalf of Brandon Christian Sharp, Bullhead City, Arizona—Court of Federal Claims Number 02-0673V

332. Henry Hubbard and Chanel Page on behalf of Heaven Chanel Hubbard, New York, New York—Court of Federal Claims Number 02-0674V

333. Alonzo Jones and Denze Goddard on behalf of Xavier Jones, New York, New York—Court of Federal Claims Number 02-0675V

334. April Harrison on behalf of Jacob Sloan May, Logan, West Virginia—Court of Federal Claims Number 02-0676V

335. Janeth Rivera on behalf of Jovanny Gabriel, Philadelphia, Pennsylvania—Court of Federal Claims Number 02-0677V

336. Taishea Thompson on behalf of Jerrod Andre Thompson, Washington, D.C.—Court of Federal Claims Number 02-0679V

337. Angie and Jason Breshnahan on behalf of Matthew Joseph Breshnahan, Fargo, North Dakota—Court of Federal Claims Number 02-0680V

338. Chester Mitchell on behalf of Dion'te Lamont Lang, Centerville, Illinois—Court of Federal Claims Number 02-0681V

339. Nancy and Lawrence Munoz on behalf of Nicholas Aaron Munoz, Mesa, Arizona—Court of Federal Claims Number 02-0682V

340. Christiania Harmon on behalf of Brennden Dai'Jon Davis, Granada Hills, California—Court of Federal Claims Number 02-0683V

341. Teresa and Paul Helton on behalf of Caleb Anthony Helton, Mesa, Arizona—Court of Federal Claims Number 02-0684V

342. Theresa and Howard Lattimer on behalf of Marcus Christopher Johnson, Sayre, Pennsylvania—Court of Federal Claims Number 02-0685V

343. Amanda and Richard Colton on behalf of Nicholas Hunter Colton, Louisville, Kentucky—Court of Federal Claims Number 02-0686V

344. Maureen and Howard Stevenson on behalf of Alex Edward Stevenson, Merrillville, Indiana—Court of Federal Claims Number 02-0687V

345. Lisa and Raymond Barker on behalf of Aden Neal Barker, Seattle, Washington—Court of Federal Claims Number 02-0688V

346. Jennifer and Matthew Eubanks on behalf of John Matthew Eubanks, Maywood, Illinois—Court of Federal Claims Number 02-0690V

347. Angela Nelson on behalf of Brandon Nicholas Nelson, Silver Spring, Maryland—Court of Federal Claims Number 02-0691V

348. Kennith Hackler on behalf of Cade Hackler, Boston, Massachusetts—Court of Federal Claims Number 02-0693V

349. Marlene Cox on behalf of Jordan Cox, Boston, Massachusetts—Court of Federal Claims Number 02-0694V

350. Stanley Siror on behalf of Brian Siror, Boston, Massachusetts—Court of Federal Claims Number 02-0695V

351. Jody and Roger Wetzel on behalf of Ryan Wetzel, Vienna, Virginia—Court of Federal Claims Number 02-0697V

352. Judy Herbsleb on behalf of Drew Herbsleb; Vienna, Virginia—Court of Federal Claims Number 02-0698V

353. Kely Taylor on behalf of James P. Taylor, Vienna, Virginia—Court of Federal Claims Number 02-0699V 4.

354. Ann and Mark Griswold on behalf of Vladimir Griswold, Vienna, Virginia—Court of Federal Claims Number 02-0700V

355. John Haverty on behalf of Carli Haverty, Vienna, Virginia—Court of Federal Claims Number 02-0701V

356. Kelly A. Myers, Martins Ferry, Ohio—Court of Federal Claims Number 02-0710V

357. Diane Parker, Crown Point, Indiana—Court of Federal Claims Number 02-0715V

358. Lelia and Jeff Wright on behalf of Randy Wright, Jackson, Michigan—Court of Federal Claims Number 02-0717V

359. Sharon Kask on behalf of Erica Kask, Lowell, Massachusetts—Court of Federal Claims Number 02-0719V

360. Gopinatha McAlpine, Honolulu, Hawaii—Court of Federal Claims Number 02-0720V

361. Monique Sattler on behalf of Jack Sattler, Vienna, Virginia—Court of Federal Claims Number 02-0723V

362. R. Darrell Weaver on behalf of Ashley Weaver, Vienna, Virginia—Court of Federal Claims Number 02-0724V

363. Robert Hayman on behalf of Nora Hayman, Vienna, Virginia—Court of Federal Claims Number 02-0725V

364. Bethany and John Padgett on behalf of Taylor Grace Padgett, Vienna, Virginia—Court of Federal Claims Number 02-0726V

365. Jodi Hansen on behalf of Dayton Hansen, Vienna, Virginia—Court of Federal Claims Number 02-0727V

366. Katie Thomason on behalf of Daniel Thomason, Vienna, Virginia—Court of Federal Claims Number 02-0728V

367. Wendy Heiberg on behalf of Scott Heiberg, Boston, Massachusetts—Court of Federal Claims Number 02-0729V

368. Joann Sworan on behalf of Charles Kowalewski, Boston, Massachusetts—Court of Federal Claims Number 02-0731V

369. Kenneth Banks on behalf of Bailey Banks, Macon, Georgia—Court of Federal Claims Number 02-0738V

370. Kelle Miller on behalf of Skylar Miller, Boston, Massachusetts—Court of Federal Claims Number 02-0739V

371. Susan Fredge on behalf of Samuel Fredge, Boston, Massachusetts—Court of Federal Claims Number 02-0740V

372. Leigh Foutch on behalf of Lauren Foutch, Boston, Massachusetts—Court of Federal Claims Number 02-0741V

373. Ping Li on behalf of Victor Chang, Boston, Massachusetts—Court of Federal Claims Number 02-0742V

374. Maria Socorro Gonzalez on behalf of Josman Gonzalez, Boston, Massachusetts—Court of Federal Claims Number 02-0743V

375. Tameka Montalvo on behalf of Marcello Vanino, Reading, Pennsylvania—Court of Federal Claims Number 02-0744V

376. Amy and Anthony Accardo on behalf of Nicholas Accardo, Dallas, Texas—Court of Federal Claims Number 02-0745V

377. Carla Russell on behalf of Cartre Michael Russell, Andalusia, Alabama—Court of Federal Claims Number 02-0747V

378. Michline and Samer Diab on behalf of Joseph Diab, San Bernadino, California—Court of Federal Claims Number 02-0748V

Dated: September 12, 2002.
Elizabeth M. Duke,
Administrator.

[FR Doc. 02-23796 Filed 9-18-02; 8:45 am]

BILLING CODE 4165-15-P